DEPARTMENT OF COMMERCE

National Oceanic and Atmospheric Administration

RIN 0648-XE218

Pacific Fishery Management Council; Public Meeting

AGENCY: National Marine Fisheries Service (NMFS), National Oceanic and Atmospheric Administration (NOAA), Commerce.

ACTION: Notice; public meeting.

SUMMARY: The Pacific Fishery Management Council's (Council) Salmon Subcommittee of the Scientific and Statistical Committee will hold a joint methodology review meeting with the Salmon Technical Team and Model Evaluation Workgroup.

DATES: The joint methodology review meeting will be held Tuesday, October 20, 2015, from 1 p.m. to 5 p.m., Wednesday, October 21, 2015, from 9 a.m. to 5 p.m., and Thursday, October 22, 2015, from 9 a.m. to noon, or until business is completed.

ADDRESSES: The meetings will be held in the Concourse Room of the Radisson Hotel Portland Airport, 6233 NE 78th Ct., Portland, OR 97218; telephone: (503) 251-2000.

Council address: Pacific Council, 7700 NE Ambassador Place, Suite 101, Portland, OR 97220-1384.

FOR FURTHER INFORMATION CONTACT: Mr. Mike Burner, Pacific Council; telephone: (503) 820-2414.

SUPPLEMENTARY INFORMATION: The purpose of the methodology review meeting is to discuss and review proposed changes to analytical methods used in salmon management. Methodology review topics were adopted by the Council at their September 9-16, 2015 meeting in Sacramento, CA and are posted on the Pacific Council's Web page (www.pcouncil.org). Recommendations from this methodology review meeting will be presented at the November 13-19, 2015 Council meeting in Garden Grove, CA where the Council is scheduled to take final action on the proposals.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: September 30, 2015.
Tracey L. Thompson,
Acting Deputy Director, Office of Sustainable Fisheries, National Marine Fisheries Service.

[FR Doc. 2015-25237 Filed 10-2-15; 8:45 am]

BILLING CODE 3510-22-P